DEPARTMENT OF THE INTERIOR

Bureau of Indian Affairs

Indian Gaming

AGENCY: Bureau of Indian Affairs, Interior.

ACTION: Notice of Approved Tribal-State Class III Gaming Compact taking effect.

SUMMARY: This notice publishes the Approval of the Amendment to the Amended and Restated Tribal-State Compact for Regulation of Class III Gaming between the Confederated Tribes of the Grand Ronde Community of Oregon and the State of Oregon, Amendment I.

DATES: Effective Date: December 28, 2012.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2701 et seq., the Secretary of the Interior shall publish in the Federal Register notice of approved Tribal-State compacts for the purpose of engaging in Class III gaming activities on Indian lands. On November 19, 2012, the Confederated Tribes of the Grand Ronde Community of Oregon and the State of Oregon, submitted the Approval of the Amendment to the Amended and Restated Tribal-State Compact for Regulation of Class III Gaming Between the Confederated Tribes of the Grand Ronde Community of Oregon and the State of Oregon, Amendment I (Amended Compact), for review and approval. The Amended Compact clarifies the definition of Video Lottery Terminal and adds a provision for the calculation of the authorized number of Video Lottery Terminals.

The Amended Compact remains in effect until it is terminated through specific action. The Assistant Secretary—Indian Affairs, Department of the Interior, through his delegated authroirty, is publishing notice that the Tribal-State Compact between the Confederated Tribes of the Grand Ronde Community of Oregon and the State of Oregon is now in effect.

Dated: December 20, 2012.
Kevin K. Washburn,
Assistant Secretary—Indian Affairs.

[FR Doc. 2012-31177 Filed 12-27-12; 8:45 am]

BILLING CODE P